DEPARTMENT OF TRANSPORTATION

Pipeline and Hazardous Materials Safety Administration

[Docket: PHMSA-99-6355]

Request for Public Comments and Office of Management and Budget (OMB) Approval of an Existing Information Collection (2137-0604)

AGENCY: Pipeline and Hazardous Materials Safety Administration (PHMSA), DOT.

SUMMARY: This notice requests public participation in the Office of Management and Budget (OMB) approval process for the renewal of an existing PHMSA information collection. In compliance with the Paperwork Reduction Act of 1995, this notice announces that the Information Collection Request (ICR) described below has been forwarded to OMB for extension of the currently approved collection. The ICR describes the nature of the information collection and the expected burden. This renewal of information complies with the integrity management rule for hazardous liquid pipelines for operators with more than 500 miles of pipeline. PHMSA published a Federal Register Notice soliciting comments on the following information collection and received none. The purpose of this notice is to allow the public an additional 30 days from the date of this notice to submit comments.

DATES: Comments must be submitted on or before January 22, 2007.

ADDRESSES: Send comments to the Office of Information and Regulatory Affairs, Office of Management and Budget, 725—17th Street, NW., Washington, DC 20503, Attention DOT Desk Officer.

FOR FURTHER INFORMATION CONTACT: William Fuentevilla at (202) 366-6199, or by e-mail at William.Fuentevilla@dot.gov.

SUPPLEMENTARY INFORMATION: Comments are invited on whether the proposed collection of information is necessary for the proper performance of the functions of the Department. These include (1) whether the information will have practical utility; (2) the accuracy of the Department's estimate of the burden of the proposed information collections; (3) ways to enhance the quality, utility, and clarity of the information to be collected; and (4) ways to minimize the burden of the collection of information on respondents, including the use of automated collection techniques or other forms of information technology. PHMSA published a Federal Register Notice with a 60-day comment period for this ICR on June 16, 2006 (71 FR 34995), and received no comments.

Through the Integrity Management Program (49 CFR 195.452), PHMSA requires operators to develop and follow integrity management programs to assess, evaluate, repair, and validate pipeline segments that could impact high consequence areas in the event of leak or failure. The programs must provide for continual assessment of pipeline segments that could affect populated areas, areas unusually sensitive to environmental damage and commercially navigable waterways. Pipeline operators must keep updated written records associated with their programs and have them available for inspection, and submit relevant notices to PHMSA as specified by the regulation.

As used in this notice, the term “information collection” includes all work related to preparing and disseminating information related to this recordkeeping requirement including completing paperwork, gathering information, and conducting telephone calls.

Type of Information Collection Request: Renewal of Existing Collection.

Title of Information Collection: Pipeline Integrity Management in High Consequence Areas (Operators with more than 500 Miles of Hazardous Liquid Pipelines).

Respondents: 71 hazardous liquid pipeline operators with more than 500 miles of pipes.

Estimated Total Annual Burden on Respondents: 57,510 hours.

Issued in Washington, DC on December 18, 2006.
Florence L. Hamn,
Director of Regulations for Pipeline Safety.

[FR Doc. 06-9814 Filed 12-18-06; 2:57 pm]

BILLING CODE 4910-60-P